DEPARTMENT OF VETERANS AFFAIRS

Privacy Act of 1974; System of Records

AGENCY: Department of Veterans Affairs.

ACTION: Notice of amendment to system of records—Department of Veterans Affairs Federal Docket Management System Commenter Information (VAFDMS—Commenter Info)—(140VA02REG).

SUMMARY: Pursuant to the provisions of the Privacy Act of 1974 (5 U.S.C. 552a), notice is hereby given that the Department of Veterans Affairs (VA) is amending the system of records currently titled, “Department of Veterans Affairs Federal Docket Management System (VAFDMS)—(140VA00REG)” as set forth in the Federal Register on February 9, 2007 and amended on March 25, 2008. VA is amending the system name, expanding the authority listed for maintenance of the system, clarifying storage location, and updating the address for notification and record access procedures. VA is republishing the system notice in its entirety.

DATES: This amended system of record will be effective March 3, 2015.

FOR FURTHER INFORMATION CONTACT: William F. Russo, Privacy Officer, or Janet Coleman, Chief, Office of Regulation Policy and Management (02REG), Office of the General Counsel, Department of Veterans Affairs, 810 Vermont Avenue NW, Washington, DC 20420, (202) 461-4902.

SUPPLEMENTARY INFORMATION: A Notice of Establishment of New System of Records was published in the Federal Register on February 9, 2007 (72 FR 6315), and amended on March 25, 2008 (73 FR 15856).

I. Description of the System of Records

The Department of Veterans Affairs Federal Docket Management System (VAFDMS) serves as a central, electronic repository for VA rulemaking and non-rulemaking dockets including Federal Register rules, notices, supporting materials such as scientific and economic analyses, and public comments. The portion of VAFDMS information that comes under the Privacy Act is personal identifying information (name and contact address/email address). This information permits VA to identify individuals who have submitted comments in response to VA rulemaking documents or notices so that communications or other actions, as appropriate and necessary, can be effected, such as clarification of the comment, direct response to a comment, and other activities associated with the rulemaking or notice process. Identification is possible only if the individual voluntarily provides identifying information when submitting a comment. If such information is not furnished, the submitted comments and/or supporting documentation cannot be linked to an individual.

VAFDMS permits members of the public to search posted public comments received by name of the individual submitting the comment on the regulations.gov Web site. All the contents of posted comments are searchable. Unless the individual submits the comment anonymously, a name search will result in the comment being displayed for view. If the comment is submitted electronically using VAFDMS, the viewed comment will not include the name of the submitter or any other identifying information about the individual except the information that the submitter has opted to include as part of his or her general comment. If a comment is submitted by an individual on his or her own behalf, in writing, that has been scanned and uploaded into VAFDMS, unless the individual submits the comment anonymously, the submitter's name will be on the comment, but other personally identifying information will be redacted before it is scanned and posted. Comments submitted on behalf of organizations in writing that have to be scanned and uploaded into VAFDMS, may not be redacted.

II. Proposed Update to Authority for Maintenance of the System

VA is adding to the authority listed for the system so as to better guide individuals if they are researching the authority.

III. Proposed Amendments to System Name

VA is renaming the system of records to reflect the categories of individuals on whom information is maintained, and to update the originating office name that changed from 00REG to 02REG. Thus “Department of Veterans Affairs Federal Docket Management System (VAFDMS)—(140VA00REG)” is renamed as, “Department of Veterans Affairs Federal Docket Management System Commenter Information (VAFDMS—Commenter Info)—(140VA02REG)”.

IV. Proposed Amendment to Storage

VA is providing greater detail as to where records are stored.

V. Proposed Update to the Address for Notification and Record Access Procedures

VA is updating the mailbox address for the office for notification and record access procedures from 00REG to 02REG.

VI. Proposed Update To Record Source Categories

VA is correcting the Record Source Categories to correctly list both individuals and public or private organizations. Formerly only “individuals” was listed.

Under 5 U.S.C. 552a(r) (Privacy Act), as amended, and guidelines issued by OMB published at 65 FR 77677 on December 12, 2000, these proposed minor changes do not need to be reported to Congressional Committees or the Director of the Office of Management and Budget before implementation.

Signing Authority

The Secretary of Veterans Affairs, or designee, approved this document and authorized the undersigned to sign and submit the document to the Office of the Federal Register for publication electronically as an official document of the Department of Veterans Affairs. Jose D. Riojas, Chief of Staff, approved this document on February 12, 2015 for publication.

Dated: February 25, 2015.
Jeffrey M. Martin,
Program Manager, Regulation Policy and Management, Office of the General Counsel, Department of Veterans Affairs.

140VA02REG

SYSTEM NAME:

Department of Veterans Affairs Federal Docket Management System Commenter Information (VAFDMS—Commenter Info)

SYSTEM LOCATION:

Primary location: Electronic records are kept at the U.S. Environmental Protection Agency, Research Triangle Park, NC 27711-0001. Secondary location: Paper records are kept at Department of Veterans Affairs, 810 Vermont Avenue NW., Washington, DC 20420.

CATEGORIES OF INDIVIDUALS COVERED BY THE SYSTEM:

Individuals who voluntarily provide personal contact information when submitting a public comment and/or supporting materials in response to a Department of Veterans Affairs rulemaking document or notice.

CATEGORIES OF RECORDS IN THE SYSTEM:

Full name, postal address, email address, phone and fax numbers of the individual submitting comments, the name of the individual or organization that the individual represents, and the comments, as well as other supporting documentation, furnished by the individual. Comments may include personal information about the commenter.

AUTHORITY FOR MAINTENANCE OF THE SYSTEM:

44 U.S.C. 3501, Note; Sec. 206(d), Pub. L. 107-347; 5 U.S.C. 301, 552, 552a, and 553.

PURPOSE:

To permit the Department of Veterans Affairs (VA) to identify individuals, who have submitted comments in response to VA rulemaking documents or notices, so that communications or other actions, as appropriate and necessary, can be effected, such as to seek clarification of the comment, to directly respond to a comment, and for other activities associated with the rulemaking or notice process.

ROUTINE USES OF RECORDS MAINTAINED IN THE SYSTEM, INCLUDING CATEGORIES OF USERS AND THE PUROSES OF SUCH USES:

1. The record of an individual who is covered by a system of records may be disclosed to a Member of Congress, or a staff person acting for the Member, when the Member or staff person requests the record on behalf of and at the written request of the individual.

2. Disclosure may be made to the National Archives and Records Administration in records management inspections conducted under authority of Title 44 U.S.C.

3. VA may disclose information from this system of records to the Department of Justice (DoJ), either on VA's initiative or in response to DoJ's request for the information, after either VA or DoJ determines that such information is relevant to DoJ's representation of the United States or any of its components in legal proceedings before a court or adjudicative body, provided that, in each case, the agency also determines prior to disclosure that release of the records to the DoJ is a use of the information contained in the records that is compatible with the purpose for which VA collected the records. VA, on its own initiative, may disclose records in this system of records in legal proceedings before a court or administrative body after determining that the disclosure of the records to the court or administrative body is a use of the information contained in the records that is compatible with the purpose for which VA collected the records.

4. Disclosure of relevant information may be made to individuals, organizations, private or public agencies, or other entities with whom VA has a contract or agreement or where there is a subcontract to perform such services as VA may deem practicable for the purposes of laws administered by VA, in order for the contractor or subcontractor to perform the services of the contract or agreement.

5. VA may disclose on its own initiative any information in the system, except the names and home addresses of veterans and their dependents, that is relevant to a suspected or reasonably imminent violation of the law whether civil, criminal, or regulatory in nature and whether arising by general or program statute or by regulation, rule, or order issued pursuant thereto, to a Federal, state, local, tribal, or foreign agency charged with the responsibility of investigating or prosecuting such violation, or charged with enforcing or implementing the statute, regulation, rule, or order. VA may also disclose on its own initiative the names and addresses of veterans and their dependents to a Federal agency charged with the responsibility of investigating or prosecuting civil, criminal, or regulatory violations of law, or charged with enforcing or implementing the statute, regulation, or order issued pursuant thereto.

6. Disclosure to other Federal agencies may be made to assist such agencies in preventing and detecting possible fraud or abuse by individuals in their operations and programs.

7. VA may, on its own initiative, disclose any information or records to appropriate agencies, entities, and persons when (1) VA suspects or has confirmed that the integrity or confidentiality of information in the system of records has been compromised; (2) VA has determined that as a result of the suspected or confirmed compromise, there is a risk of embarrassment or harm to the reputations of the record subjects, harm to economic or property interests, identity theft or fraud, or harm to the security, confidentiality, or integrity of this system or other systems or programs (whether maintained by the Department or another agency or entity) that rely upon the potentially compromised information, and (3) the disclosure is to agencies, entities, or persons whom VA determines are reasonably necessary to assist or carry out the Department's efforts to respond to the suspected or confirmed compromise and prevent, minimize, or remedy such harm. This routine use permits disclosures by the Department to respond to a suspected or confirmed data breach, including the conduct of any risk analysis or provision of credit protection services as provided in 38 U.S.C. 5724, as the terms are defined in 38 U.S.C. 5727.

8. VA may disclose information contained in this System of Records, as necessary, to comply with the requirements of the Administrative Procedure Act (APA) that comments are available for public review if submitted in response to VA's solicitation of public comments as part of the Agency's notice and rulemaking activities under the APA. However, VA will not release individually-identifiable personal information, such as an individual's address or home telephone number, under this routine-use, except where VA determines that publication without redaction was intended by the submitter.

POLICIES AND PRACTICES FOR STORING, RETRIEVING, ACCESSING, RETAINING, AND DISPOSING OF RECORDS IN THE SYSTEM:

(a) STORAGE:

Records are maintained on electronic storage media and paper. See System Location.

(b) RETRIEVABILITY:

Records are retrieved by various data elements and key word searches, among which are by: Name, Agency, Docket Type, Docket Sub-Type, Agency Docket ID, Docket Title, Docket Category, Document Type, CFR Part, Date Comment Received, and Federal Register Published Date.

(c) SAFEGUARDS:

Electronic records are maintained in a secure, password protected, electronic system that utilizes security hardware and software to include: multiple firewalls, active intruder detection, and role-based access controls. Paper records are maintained in a controlled facility, where physical entry is restricted by the use of locks, guards, and/or administrative procedures. Access to records is limited to those officials who require the records to perform their official duties consistent with the purpose for which the information was collected. All personnel whose official duties require access to the information are trained in the proper safeguarding and use of the information.

(d) RETENTION AND DISPOSAL:

Records will be maintained and disposed of, in accordance with records disposition authority, approved by the Archivist of the United States.

SYSTEM MANAGER(S) AND ADDRESSES:

William F. Russo, Privacy Officer, Office of Regulation Policy and Management (02REG), Department of Veterans Affairs, 810 Vermont Ave. NW., Washington, DC 20420; telephone (202) 461-4902.

NOTIFICATION PROCEDURES:

Individuals seeking to determine whether this System of Records contains information about them should address written inquiries to the Office of Regulation Policy and Management (02REG), Department of Veterans Affairs, 810 Vermont Ave. NW., Washington, DC 20420. Requests should contain the full name, address and telephone number of the individual making the inquiry.

RECORD ACCESS PROCEDURE:

Individuals seeking to access or contest the contents of records, about themselves, contained in this System of Records should address a written request, including full name, address and telephone number to the Office of Regulation Policy and Management (02REG), Department of Veterans Affairs, 810 Vermont Ave. NW., Washington, DC 20420.

CONTESTING RECORD PROCEDURE:

(See Record Access Procedure above.)

RECORD SOURCE CATEGORIES:

Individuals; public or private organizations.

EXEMPTIONS CLAIMED FOR THE SYSTEM:

There are no exemptions being claimed for this system.

[FR Doc. 2015-04314 Filed 3-2-15; 8:45 am]

BILLING CODE 8320-01-P